NATIONAL SCIENCE FOUNDATION

Sunshine Act Meeting; National Science Board

The National Science Board (NSB), pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Closed teleconference of the National Science Board (NSB) Committee on Strategy (CS) of the National Science Board, to be held Wednesday, August 19, 2020 at 3:45-4:00 p.m. EDT.

PLACE: This meeting will be held by videoconference organized through the National Science Foundation.

STATUS: Closed.

MATTERS TO BE CONSIDERED: Chair's remarks; review and discussion of proposed CS recommendation of approval to the Board of the NSF, NSB and OIG FY 2022 budget submissions to the Office of Management and Budget (OMB).

CONTACT PERSON FOR MORE INFORMATION: Point of contact for this meeting is: Chris Blair, (703) 292-7000, cblair@nsf.gov. You may find meeting information and updates (time, place, subject matter or status of meeting) at https://www.nsf.gov/nsb/meetings/notices.jsp#sunshine.

Chris Blair,
Executive Assistant to the National Science Board Office.

[FR Doc. 2020-17884 Filed 8-12-20; 11:15 am]

BILLING CODE 7555-01-P